DEPARTMENT OF THE TREASURY

Internal Revenue Service

26 CFR Part 1

[TD 9254]

RIN 1545-BB25

Guidance Under Section 1502; Suspension of Losses on Certain Stock Dispositions; Correction

AGENCY: Internal Revenue Service (IRS), Treasury.

ACTION: Correction to final regulations.

SUMMARY: This document contains corrections to final regulations that were published in the Federal Register on Tuesday, March 14, 2006 (71 FR 13008). The regulations apply when a member of a consolidated group transfers subsidiary stock at a loss. They also apply when a member holds loss shares of subsidiary stock and the subsidiary ceases to be a member of the group.

DATES: This correction is effective March 14, 2006.

FOR FURTHER INFORMATION CONTACT: Theresa Abell (202) 622-7700 or Martin Huck (202) 622-7750 (not toll-free numbers).

SUPPLEMENTARY INFORMATION:

Background

The final regulations (TD 9254) that are the subject of this correction are under section 1502 of the Internal Revenue Code.

Need for Correction

As published, final regulations (TD 9254) contains an error that may prove to be misleading and is in need of clarification.

Correction of Publication

Accordingly, the final regulations (TD 9254) which was the subject of FR Doc. 06-2411, is corrected as follows:

On page 13009, column 2, in the preamble, under the paragraph heading “Special Analyses”, line 4 from the bottom of the paragraph, the language “these regulations was submitted to the” is corrected to read “these regulations were submitted to the”.

Guy R. Traynor,
Chief, Publications and Regulations Branch, Legal Processing Division, Associate Chief Counsel, (Procedure and Administration).

[FR Doc. E6-8890 Filed 6-7-06; 8:45 am]

BILLING CODE 4830-01-P